DEPARTMENT OF COMMERCE

International Trade Administration

[A-570-901]

Certain Lined Paper Products from the People's Republic of China: Notice of Rescission, in Part, of Antidumping Duty Administrative Review

AGENCY: Import Administration, International Trade Administration, Department of Commerce.

EFFECTIVE DATE: July 23, 2009.

FOR FURTHER INFORMATION CONTACT: Joy Zhang or Victoria Cho, AD/CVD Operations, Office 3, Import Administration, International Trade Administration, U.S. Department of Commerce, 14th Street and Constitution Avenue, NW, Washington, DC 20230; telephone: (202) 482-1168, or (202) 482-5075, respectively.

SUPPLEMENTARY INFORMATION:

Background

On September 28, 2006, the Department of Commerce (the Department) published in the Federal Register an antidumping duty order on certain lined paper products (CLPP) from the People's Republic of China (PRC).¹ On September 2, 2008, the Department published a notice of opportunity to request an administrative review of the antidumping duty order on CLPP from China. See Antidumping or Countervailing Duty Order, Finding, or Suspended Investigation; Opportunity To Request Administrative Review, 73 FR 51272 (September 2, 2008). On September 30, 2008, the Association of American School Paper Suppliers (Petitioner) requested that the Department conduct an administrative review of (1) Shanghai Lian Li Paper Products Co., Ltd. (Lian Li), and (2) the Watanabe Group, which consists of Watanabe Paper Products (Shanghai) Co., Ltd., Watanabe Paper Products (Lingqing) Co., Ltd., and Hotrock Stationery (Shenzhen) Co., Ltd. (collectively, the Watanabe Group) for the period of review (POR) of September 1, 2007 through August 31, 2008.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

On October 29, 2008, the Department initiated this review with respect to both requested companies. See Initiation of Antidumping and Countervailing Duty Administrative Reviews and Deferral of Administrative Review, 73 FR 64305 (October 29, 2008). On November 13, 2008, Lian Li submitted a letter certifying that it did not have any shipments of subject merchandise during the POR. The Department conducted an internal U. S. Customs and Border Protection (CBP) data query on November 13, 2008, to investigate Lian Li's claim, and found that Lian Li had made shipments to the United States during the POR, which were entered under the Harmonized Tariff Schedule of the United States (HTSUS) numbers for subject merchandise. See Memorandum to File from Joy Zhang titled “Internal Customs Data Query,” dated December 2, 2008. Therefore, on December 2, 2008, the Department issued a questionnaire to Lian Li.

On January 9, Petitioner filed comments on Lian Li's no shipment claim, asking the Department to request product samples from Lian Li. On January 29, 2009, Lian Li submitted product samples of the merchandise it exported to the United States during the POR, which Lian Li claimed were non-subject merchandise. On March 4, 2009, counsel for Petitioner inspected Lian Li's product samples. See Memorandum to the File from Joy Zhang titled “Inspecting the Product Samples by Counsel for the Association of American School Paper Supplies,” dated March 4, 2009.

On June 4, 2009, the Department published a notice extending the deadline for the preliminary results from for 120 days to September 30, 2009. In this notice the Department also published its intent to rescind this administrative review in part with respect to Lian Li because the Department preliminarily determined that the product samples submitted by Lian Li and the Customs data demonstrated that Lian Li did not export subject merchandise to the United States during the POR. See Certain Lined Paper Products From the People's Republic of China: Notice of Intent to Rescind, In Part, Antidumping Duty Administrative Review and Extension of Time Limits for Preliminary Results of Antidumping Duty Administrative Review, 74 FR 26840, 26841 (June 4, 2009) (Notice of Intend to Rescind). We invited interested parties to comment. We received no comments after the publication of the Notice of Intend to Rescind.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for looseleaf filler paper) including but not limited to such products as single- and multi-subject notebooks, composition books, wireless notebooks, looseleaf or glued filler paper, graph paper, and laboratory notebooks, and with the smaller dimension of the paper measuring 6 inches to 15 inches (inclusive) and the larger dimension of the paper measuring 8-3/4 inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated , included with, or attached to the product, cover and/or backing thereto.

Specifically excluded from the scope of this order are:

• unlined copy machine paper;

• writing pads with a backing (including but not limited to products commonly known as “tablets,” “note pads,” “legal pads,” and “quadrille pads”), provided that they do not have a front cover (whether permanent or removable). This exclusion does not apply to such writing pads if they consist of hole-punched or drilled filler paper;

• three-ring or multiple-ring binders, or notebook organizers incorporating such a ring binder provided that they do not include subject paper;

• index cards;

• printed books and other books that are case bound through the inclusion of binders board, a spine strip, and cover wrap;

• newspapers;

• pictures and photographs;

• desk and wall calendars and organizers (including but not limited to such products generally known as “office planners,” “time books,” and “appointment books”);

• telephone logs;

• address books;

• columnar pads & tablets, with or without covers, primarily suited for the recording of written numerical business data;

• lined business or office forms, including but not limited to: pre-printed business forms, lined invoice pads and paper, mailing and address labels, manifests, and shipping log books;

• lined continuous computer paper;

• boxed or packaged writing stationary (including but not limited to products commonly known as “fine business paper,” “parchment paper”, and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book.), measuring 6 inches by 9 inches;

Also excluded from the scope of this order are the following trademarked products:

• Fly™ lined paper products: A notebook, notebook organizer, loose or glued note paper, with papers that are printed with infrared reflective inks and readable only by a Fly™ pen-top computer. The product must bear the valid trademark Fly™ (products found to be bearing an invalidly licensed or used trademark are not excluded from the scope).

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1” wide elastic fabric band. This band is located 2-3/8” from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover.

The product must bear the valid trademark FiveStar Flex™ (products found to be bearing an invalidly licensed or used trademark are not excluded from the scope). Merchandise subject to this order is typically imported under headings 4820.10.2020, 4820.10.2030, 4820.10.2040, 4820.10.2050, 4820.10.2060, 4810.22.5044, 4811.90.9090, 4820.10.2010 of the Harmonized Tariff Schedule of the United States (HTSUS). The HTSUS headings are provided for convenience and customs purposes; however, the written description of the scope of this order is dispositive.

Partial Rescission of Administrative Review

Pursuant to 19 CFR 351.213(d)(3), the Department may rescind an administrative review with respect to a particular exporter or producer if the Department concludes that during the POR there were no entries, exports, or sales of the subject merchandise by that exporter or producer. As noted, on November 13, 2008, Lian Li submitted a letter certifying that it did not have entries, exports or sales during the POR. Therefore, the Department conducted a CBP query, and requested that Lian Li provide product samples of products entered during the POR. Based on a review of the product samples submitted by Lian Li and the Customs data, we preliminarily determined that Lian Li did not export subject merchandise to the United States during the POR, pursuant to 19 CFR § 351.213(d)(3), and consistent with our practice. See Notice of Intent to Rescind, 74 FR at 26840. The Department did not receive comments from any interested party on the Department's intent to rescind. Based on our analysis of the evidence on the record, the Department has determined that Lian Li is a non-shipper for this review.

Therefore, in accordance with 19 CFR 351.213(d)(3), we are rescinding this review with respect to Lian Li. Only one respondent, the Watanabe Group, remains in this review. We intend to issue assessment instructions to CBP 15 days after the date of publication of this notice of rescission of administrative review.

We are issuing this notice in accordance with section 751 of the Tariff Act of 1930, as amended, and 19 CFR 351.213(d)(4).

Dated: July 16, 2009.
John M. Andersen,
Acting Deputy Assistant Secretary For Antidumping and Countervailing Duty Operations.

[FR Doc. E9-17575 Filed 7-22-09; 8:45 am]

BILLING CODE 3510-DS-S